DEPARTMENT OF THE INTERIOR

National Park Service

Protecting and Restoring Native Ecosystems by Managing Non-Native Ungulates Hawaii Volcanoes National Park, Hawaii; Notice of Intent To Prepare an Environmental Impact Statement

SUMMARY: In accord with § 102(2)(C) of the National Environmental Policy Act of 1969 (Pub. L. 91-90), the National Park Service is undertaking a conservation planning and environmental impact analysis process for a Non-native Ungulate Management Plan for Hawaii Volcanoes National Park. The purpose of the plan is to refine the strategies for managing non-native ungulates that supports long-term ecosystem protection, recovery and restoration of native vegetation and other natural resources, and protects and preserves cultural resources. Non-native ungulate management is needed to address unacceptable impacts of non-native ungulates, which result in the loss of native ecosystems, especially native plant and animal communities; the loss of sensitive endemic species, including state and federally listed species; and the loss of irreplaceable cultural resources. The park also needs to update non-native ungulate management in order to address NPS Management Policies 2006, § 4.4.4, Management of Exotic Species, which states that non-native species will not be allowed to displace native species if displacement can be prevented.

Background Information; Ungulates, or mammals with hooves, are an issue of concern throughout the State of Hawaii because of these are non-native species which have detrimental impacts on native diversity and ecosystems. Non-native species are those that do not naturally occur in the ecosystem and were introduced into the environment from elsewhere. Goats, European pigs, sheep, and cattle were introduced to the Hawaiian Islands in the late eighteenth century and have become feral. Mouflon sheep were introduced to Hawaii Island in the twentieth century as a game animal. Populations of non-native ungulates have proliferated in Hawaii because of an equable climate, abundant food sources, vegetation poorly adapted to herbivorous mammals, and lack of predators.

Because the ecosystems of the Hawaiian Islands evolved without large mammalian herbivores, they are particularly vulnerable to the effects of non-native ungulates. Non-native ungulates cause habitat degradation and population decline for native Hawaiian species. They impact native species through browsing, stripping bark, destroying habitat, and inhibiting regeneration. Non-native ungulates increase soil disturbance and erosion, and foster the spread of non-native plants.

Non-native ungulates also have the potential to affect cultural resources at the park, which include archeological sites, cultural landscapes, and ethnographic resources. Digging and rooting could impact archeological sites through ground disturbance. Alterations in the ecosystem of an area could impact the characteristics that contribute to its designation as a cultural landscape. Traditional uses of native peoples could be impacted by the loss of native plant and animal communities important to their culture.

The park was created in 1916, and has been addressing populations of non-native species, including ungulates, since the 1920s. However, the park's most recent EIS addressing non-native ungulate control was completed 30 years ago. Consequently the new EIS/plan will address non-native ungulate management in the context of NPS policies updated in 2006, recent park land acquisition, new invasive species challenges, and currently available strategies for managing ungulates.

Scoping Process: Hawaii Volcanoes National Park and the National Park Service (NPS) are eliciting early public comment regarding the full spectrum of issues and public concerns, the nature and extent of potential environmental impacts (and as appropriate, mitigation measures), and all feasible management alternatives which should be considered by the planning team in preparing a Draft EIS/plan. Through outreach activities planned in the scoping phase, the NPS welcomes relevant information and suggestions from the public. Publication of this Notice formally initiates the public scoping phase for the EIS process.

All written scoping comments must be postmarked or transmitted not later than May 19, 2008. Written comments may be sent to: Cindy Orlando, Superintendent, Hawai'i Volcanoes National Park, P.O. Box 52, Hawai'i National Park, HI 96718-0052. Alternatively, comments may also be transmitted electronically through the NPS Planning, Environment and Public Comment project Web site at http://parkplanning.nps.gov/HAVO. Before including your address, phone number, e-mail address, or other personal identifying information in your comment, you would be aware that your entire comment—including your personal identifying information—may be made publicly available at any time. While you can ask us to withhold your personal identifying information from public review, we cannot guarantee that we will be able to do so.

At this time, it is expected that public meetings will be hosted in the towns of Hilo (April 29), Na'alehu (April 30), and Kona (May 1). All meetings will be conducted in an open house format from 5 p.m. to 8 p.m. Detailed information regarding the meetings will be included in an announcement posted on the project Web site, and also publicized in direct mailings and via local and regional press media. All attendees will be given the opportunity to ask questions and provide comments to the planning team. The Web site noted above will provide the most up-to-date information regarding the project, including project description, planning process updates, meeting reports and documents, and informational links associated with the project.

Decision Process: Following the scoping phase and due consideration of public concerns and other agency comments, a Draft EIS for the Non-native Ungulate Management Plan will be prepared and released for public review. Availability of the forthcoming Draft EIS for pubic review and written comment will be formally announced through the publication of a Notice of Availability in the Federal Register, as well as through local and regional news media, direct mailing to the project mailing list, and via the internet at the project Web site. At this time it is expected that the Draft EIS/plan may be available for public release during summer-fall, 2009. Following due consideration of all agency and public comment as may be forthcoming after release of the draft document, a Final EIS will be prepared. As a delegated EIS, the official responsible for the final decision on the proposed non-native ungulate management plan is the Regional Director, Pacific West Region, National park Service. Subsequently, the official directly responsible for implementation of the approved plan would be the Superintendent, Hawai'i Volcanoes National Park.

Dated: December 3, 2007.
Jonathan B. Jarvis,
Regional Director, Pacific West Region.

[FR Doc. 08-628 Filed 2-12-08; 8:45 am]

BILLING CODE 4310-KU-M